DEPARTMENT OF THE INTERIOR

Bureau of Indian Affairs

[256A2100DD/AAKC001030/A0A501010.000000]

Indian Gaming; Approval by Operation of Law of the Tribal-State Compact Between the State of California and the Big Sandy Rancheria of Western Mono Indians of California

AGENCY: Bureau of Indian Affairs, Interior.

ACTION: Notice.

SUMMARY: This notice announces the approval by operation of law of the Tribal-State compact between the State of California and the Big Sandy Rancheria of Western Mono Indians of California (Compact) governing the operation and regulation of class III gaming activities.

DATES: The amendment takes effect on September 22, 2025.

FOR FURTHER INFORMATION CONTACT: Mr. Philip A. Bristol, Acting Director, Office of Indian Gaming, Office of the Assistant Secretary—Indian Affairs, Washington, DC 20240, IndianGaming@bia.gov; (202) 219-4066.

SUPPLEMENTARY INFORMATION: Under section 11 of the Indian Gaming Regulatory Act (IGRA), Public Law 100-497, 25 U.S.C. 2701 et seq., the Secretary of the Interior (Secretary) shall publish in the Federal Register notice of approved Tribal-State compacts for the purpose of engaging in class III gaming activities on Indian lands. If the Secretary does not approve or disapprove a Tribal-State compact within 45 days, IGRA provides the Tribal-State compact is considered to have been approved by the Secretary, but only to the extent the compact is consistent with IGRA. See 25 U.S.C. 2710(d)(8)(D). As required by 25 CFR 293.4, all compacts and amendments are subject to review and approval by the Secretary.

This Compact between the State of California and the Big Sandy Rancheria of Western Mono Indians of California increases the number of allowable gaming machines and gaming facilities the Tribe may operate and revises the revenue sharing structure in exchange for certain meaningful concessions. The Secretary took no action on this Compact for class III gaming between the State of California and the Big Sandy Rancheria of Western Mono Indians of California. Therefore, the Compact is considered to have been approved, but only to the extent it is consistent with IGRA. See 25 U.S.C. 2710(d)(8)(C).

Janel C. Broderick,
Principal Deputy Assistant Secretary—Indian Affairs, Exercising the delegated authority of the Assistant Secretary—Indian Affairs.

[FR Doc. 2025-18304 Filed 9-19-25; 8:45 am]

BILLING CODE 4337-15-P